DEPARTMENT OF HEALTH AND HUMAN SERVICES

Centers for Disease Control and Prevention

[30 Day-07-0479]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Automated Management Information System (MIS) for Diabetes Control Programs (OMB No. 0920-0479)—Revision—National Center for Chronic Disease Prevention and Health Promotion (NCCDPHP), Centers for Disease Control and Prevention (CDC).

Background and Brief Description

The Division of Diabetes Translation (DDT) within the National Center for Chronic Disease Prevention and Health Promotion, Centers for Disease Control and Prevention (CDC), has implemented a Management Information System (MIS) and federally sponsored data collection requirement for all CDC funded Diabetes Prevention and Control Programs. Diabetes is the sixth leading cause of death in the United States, contributing to more than 224,000 deaths each year. An estimated 14.6 million people in the United States have been diagnosed with diabetes and an estimated 6.2 million people have undiagnosed diabetes. The Division of Diabetes Translation provides funding to health departments of States and territories to develop, implement, and evaluate systems-based Diabetes Prevention and Control Programs (DPCPs). DPCPs are population-based, public health programs that design, implement and evaluate public health prevention and control strategies that improve access to and quality of care for all, and reach communities most impacted by the burden of diabetes (e.g., racial/ethnic minority populations, the elderly, rural dwellers and the economically disadvantaged). Support for these programs is a cornerstone of the DDT's strategy for reducing the burden of diabetes throughout the nation. The Diabetes Control Program is authorized under sections 301 and 317(k) of the Public Health Service Act [42 U.S.C. 241 and 247b(k)].

In accordance with the original OMB approval (0920-0479) and the first extension (August 14, 2003) for this project, this requested revision will continue to expand and enhance the use of the technical reporting capacity of the MIS for 3 years. The MIS is a Web-based, password access protected repository/technical reporting system that replaces an archaic paper reporting system. The MIS allows the accurate, uniform, and complete collection of diabetes program progress information using the Internet.

The number of hours that DPCPs users spend to maintain and use the MIS has increased compared to the initial baseline period. This increase in data collection burden does not directly translate into a greater reporting burden; however, it facilitates better monitoring and tracking of program activities in real-time and helps create an organizational memory. Consequently, diabetes control programs are using the MIS to a great extent as an integral part of their program compared to previous years. DPCPs add updates about their work plans and other activities into the System on an ongoing basis. The hour-burden estimates include the time for reviewing instructions, searching existing data sources, gathering and maintaining the data needed, and completing and reviewing the collection of information. Based on input provided by a representative sample for DPCPs, the total annualized response burden is expected to increase from 4 to 96 hours, changing the total burden hours from 236 to 5,664. Even though there has been an increase in the burden hours the number of responses remains at one (1), because the DPCPs are only required to report annually to CDC.

The MIS has improved upon the old data collection system by:

• Improving accountability.

• Shortening the information cycle.

• Eliminating non-standard reporting.

• Minimizing unnecessary duplication of data collection and entry.

• Reducing the reporting burden on small state organizations.

• Using plain, coherent, and unambiguous terminology that is understandable to respondents.

• Implementing a consistent system for progress reporting and record keeping processes.

• Identifying the retention periods for record keeping requirements.

• Utilizing modern information technology for data collection and transfer.

• Significantly reducing the amount of paper reports that diabetes prevention and control programs are required to submit.

The MIS also allows CDC to more rapidly respond to outside inquiries concerning a specific diabetes control activity occurring in the state diabetes prevention and control programs. The data collection requirement has formalized the format and the content of diabetes data reported from the DPCPs and provides an electronic means for efficient collection and transmission to the CDC headquarters.

The MIS has facilitated the staff's ability at CDC to fulfill its obligations under the cooperative agreements; to monitor, evaluate, and compare individual programs; and to assess and report aggregate information regarding the overall effectiveness of the DCP program. It has also supported DDT's broader mission of reducing the burden of diabetes by enabling DDT staff to more effectively identify the strengths and weaknesses of individual DPCPs and to disseminate information related to successful public health interventions implemented by these organizations to prevent and control diabetes.

Implementation of the MIS has provided for efficient collection of state-level diabetes program data.

There are no costs to the respondents other than their time. The total estimated annualized burden hours are 5,664.

Estimated Annualized Burden Hours
Type of respondents | Form name | No. of respondents | No. of responses per respondent | Average burden per response (in hours)
State Diabetes Control and Prevention Program Officers | Long-Term Objectives Updates | 59 | 1 | 15
| Process Objectives Updates | 59 | 1 | 13
| Resource Updates | 59 | 1 | 10
| Advisory Group Updates | 59 | 1 | 10
| Surveillance Sources Updates | 59 | 1 | 10
| Budget Updates | 59 | 1 | 20
| Staff Position Updates | 59 | 1 | 10
| Additional Accomplishments Updates | 59 | 1 | 8

Dated: February 2, 2007.
Joan F. Karr,
Acting Reports Clearance Officer, Centers for Disease Control and Prevention.

[FR Doc. E7-2072 Filed 2-7-07; 8:45 am]

BILLING CODE 4163-18-P